DEPARTMENT OF DEFENSE

Department of the Air Force

Notice of Intent To Prepare An Environmental Impact Statement And Environmental Impact Report for the Edwards Air Force Base Solar Enhanced Use Lease Project

AGENCY: Department of the States Air Force.

ACTION: Notice of intent.

SUMMARY: The United States Air Force (The Air Force) is issuing this notice to advise the public of the intent to prepare a joint Environmental Impact Statement and Environmental Impact Report with the County of Kern, California. The Environmental Impact Statement and Environmental Impact Report will assess the potential environmental consequences of various alternatives for development of the Edwards Air Force Base Solar Enhanced Use Lease Project.

DATES: The Air Force invites the public, stakeholders, and other interested parties to attend an open house public scoping meeting on December 12, 2017 from 5 p.m. to 8 p.m. at the Mojave Veterans Memorial Building located at address 15580 O Street, Mojave, California 93501.

ADDRESSES: Scoping comments may also be submitted to: Gary Hatch, Environmental Public Affairs, Bldg. 1405 Room 400, Edwards Air Force Base, California 93524; email: 412tw.pae@edwards.af.mil, Phone: 661-277-4127, Fax: (661) 277-2732. Handicap assistance or translation service at public meetings can be made available by providing advance notice to Mr. Hatch at the contact information listed above.

Comments will be accepted at any time during the environmental impact analysis process. However, to ensure the Air Force has sufficient time to consider public input in the preparation of the Draft Environmental Impact Statement, scoping comments should be submitted by January 12, 2017.

SUPPLEMENTARY INFORMATION: The Solar Enhanced Use Lease Project will be sited up to 4,000 acres of available, non-excess Air Force land located on Edwards Air Force Base. Alternatives which meet the purpose and need for the Proposed Action have been identified and include the No Action Alternative and two additional alternatives. Alternative A includes full-scale project development of a 600 Megawatt solar PV project and construction of a 150 Megawatt battery storage facility on up to 4,000 acres of Edwards Air Force Base property located in the northwestern corner of the base. Alternative B represents a reduced-scale alternative for the construction and operation of a 200 Megawatt solar PV project and construction of a 150 Megawatt battery storage facility. Under Alternative B, the reduced-scale project will be sited on up to 1,500 acres of Edwards Air Force Base non-excess property within the same project footprint as Alternative A. The project also includes construction of a Gen-tie line of approximately 10-14 miles in total length. The Gen-tie includes a north-south component and an east-west component. There are three alternatives for the north-south Gen-tie connection. The Proposed Action will include only one of these three north-south route options. There are two alternatives for the east-west Gen-tie connection. The Proposed Action will include only one of these two east-west route options. The Proposed Action is subject to the requirements and objectives of Executive Order 11988, Floodplain Management, as amended. All alternatives for the Proposed Action, including alternatives for the Gen-tie line will result in impacts to floodplains.

Scoping and Agency Coordination: To effectively define the full range of issues to be evaluated in the Environmental Impact Statement and Environmental Impact Report, the Air Force will determine the scope of the analysis by soliciting comments from interested local, state and federal elected officials and agencies, as well as interested members of the public and others. Implementation of the Edwards Solar Enhanced Use Lease Project would have the potential to be located in a floodplain and/or wetland. Consistent with the requirements and objectives of Executive Order 11990, “Protection of Wetlands,” and Executive Order 11988, “Floodplain Management,” as amended by Executive Order 13690, “Establishing a Federal Flood Risk Management Standard and a Process for Further Soliciting and Considering Stakeholder Input,” state and federal regulatory agencies with special expertise in wetlands and floodplains will be contacted to request comment. Consistent with Executive Order 11988, Executive Order 13690, and Executive Order 11990, this Notice of Intent initiates early public review of the alternatives that have the potential to be located in a floodplain and/or wetland. Notification of the meeting locations, dates, and times will be published and announced in local news media no later than 15 days prior to public scoping meetings.

The scoping process will help identify the full range of reasonable alternatives, potential impacts, and key issues to be emphasized in the environmental analysis. The Air Force has identified potential impacts to the following resources: Air Quality, Biological Resources, Cultural and Historical Resources, Water Resources, Land Use, Paleontological Resources, Soils, and Visual Resources. Scoping will assist the Air Force and Kern County in identifying and addressing other issues of concern.

Oral and written comments presented at the public scoping meetings, as well as written comments received by the Air Force or County of Kern will be considered in the preparation of the Draft Environmental Impact Statement and Environmental Report.

Henry Williams,
Acting Air Force Federal Register Liaison Officer.

[FR Doc. 2017-25556 Filed 11-24-17; 8:45 am]

BILLING CODE 5001-10-P